DEPARTMENT OF TRANSPORTATION

Federal Aviation Administration

14 CFR Part 39

[Docket No. FAA-2009-1230; Directorate Identifier 2009-NM-088-AD; Amendment 39-16165; AD 2010-01-07]

RIN 2120-AA64

Airworthiness Directives; Airbus (Type Certificate Previously Held by Airbus Industrie) Model A340-200, -300, -500, and -600 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

* * * * *

* * * Revision 00 of AIRBUS A340 ALS [Airworthiness Limitations Section] Part 3:

—adds new CMR (Certification Maintenance Requirements) tasks associated with modifications,

—revises the applicability of some CMR tasks,

—revises some CMR tasks with increased intervals,

—revises a CMR task with a more restrictive interval,

—deletes CMR task 282300-B0002-1-C * * *.

Some of those changes constitute more restrictive requirements for aeroplane configuration already in service. Failure to comply with this Revision 00 of AIRBUS A340 ALS Part 3 constitutes an unsafe condition.

* * * * *

The unsafe condition is a safety-significant latent failures that would, in combination with one or more other specific failures or events, result in a hazardous or catastrophic failure condition. This AD requires actions that are intended to address the unsafe condition described in the MCAI.

DATES: This AD becomes effective January 27, 2010.

The Director of the Federal Register approved the incorporation by reference of a certain publication listed in the AD as of January 27, 2010.

We must receive comments on this AD by February 26, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the Technical Agent for the Member States of the European Community, has issued EASA Airworthiness Directive 2009-0098, dated April 22, 2009 (referred to after this as “the MCAI”), to correct an unsafe condition for the specified products. The MCAI states:

The Certification Maintenance Requirements (CMR) were given in the AIRBUS A340 CMR Document reference 955.3019/92 up to revision 15, which was mandated by EASA AD 2007-0240, and referenced in the Airworthiness Limitations Section (ALS) Part 3. The content of the CMR Document has been recently transferred into the ALS Part 3 Revision 00, which is approved by the European Aviation Safety Agency (EASA).

This Revision 00 of AIRBUS A340 ALS Part 3:

—adds new CMR tasks associated with modifications,

—revises the applicability of some CMR tasks,

—revises some CMR tasks with increased intervals,

—revises a CMR task with a more restrictive interval,

—deletes CMR task 282300-B0002-1-C which is the subject of EASA AD 2007-0279.

Some of those changes constitute more restrictive requirements for aeroplane configuration already in service. Failure to comply with this Revision 00 of AIRBUS A340 ALS Part 3 constitutes an unsafe condition. This new AD * * * requires the implementation of Revision 00 of AIRBUS A340 ALS Part 3.

The unsafe condition is a safety-significant latent failures that would, in combination with one or more other specific failures or events, result in a hazardous or catastrophic failure condition. This AD requires revising the ALS of the Instructions for Continued Airworthiness by incorporating new and revised CMRs. You may obtain further information by examining the MCAI in the AD docket.

Relevant Service Information

Airbus has issued A340 ALS, Part 3—Certification Maintenance Requirements (CMR), Revision 00, including Appendices 1 and 2, dated July 31, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2009-1230; Directorate Identifier 2009-NM-088-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-01-07 Airbus (Type Certificate Previously Held by Airbus Industrie): Amendment 39-16165. Docket No. FAA-2009-1230; Directorate Identifier 2009-NM-088-AD.

Effective Date

(a) This airworthiness directive (AD) becomes effective January 27, 2010.

Affected ADs

(b) None.

Applicability

(c) This AD applies to all Airbus (Type Certificate previously held by Airbus Industrie) Model A340-211, -212, -213, -311, -312, -313, -541, and -642 series airplanes; certificated in any category; all serial numbers.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (g)(1) of this AD. The request should include a description of changes to the required inspections that will ensure the continued damage tolerance of the affected structure. The FAA has provided guidance for this determination in Advisory Circular (AC) 25-1529-1.

Subject

(d) Air Transport Association (ATA) of America Code 05.

Reason

(e) The mandatory continued airworthiness information (MCAI) states:

The Certification Maintenance Requirements (CMR) were given in the AIRBUS A340 CMR Document reference 955.3019/92 up to revision 15, which was mandated by EASA AD 2007-0240, and referenced in the Airworthiness Limitations Section (ALS) Part 3. The content of the CMR Document has been recently transferred into the ALS Part 3 Revision 00, which is approved by the European Aviation Safety Agency (EASA).

This Revision 00 of AIRBUS A340 ALS Part 3:

—adds new CMR tasks associated with modifications,

—revises the applicability of some CMR tasks,

—revises some CMR tasks with increased intervals,

—revises a CMR task with a more restrictive interval,

—deletes CMR task 282300-B0002-1-C which is the subject of EASA AD 2007-0279.

Some of those changes constitute more restrictive requirements for aeroplane configuration already in service. Failure to comply with this Revision 00 of AIRBUS A340 ALS Part 3 constitutes an unsafe condition. This new AD * * * requires the implementation of Revision 00 of AIRBUS A340 ALS Part 3.

The unsafe condition is a safety-significant latent failure that would, in combination with one or more other specific failures or events, result in a hazardous or catastrophic failure condition. This AD requires revising the ALS of the Instructions for Continued Airworthiness by incorporating new and revised CMRs.

Actions and Compliance

(f) Unless already done, within 3 months after the effective date of this AD, revise the ALS of the Instructions for Continued Airworthiness by incorporating Airbus A340 ALS, Part 3—Certification Maintenance Requirements (CMR), Revision 00, dated July 31, 2008 (“ALS, Part 3”). Accomplish the actions specified in the ALS, Part 3, at the times specified in the ALS, Part 3, and in accordance with the ALS, Part 3, except as provided by paragraphs (f)(1) and (f)(2) of this AD.

(1) Count the associated interval for any new task from the effective date of this AD, except that Airbus A340 CMR Task 212100-00001-1-C must be performed at the later of the times specified in paragraphs (f)(1)(i) and (f)(1)(ii) of this AD.

(i) Before the accumulation of 2,600 total flight hours since the date of issuance of the original French airworthiness certificate or the date of issuance of the original French or EASA export certificate of airworthiness.

(ii) Within 800 flight hours or 3 months, whichever comes first, after the approval date of Revision 00 of the ALS, Part 3.

(2) Count the associated interval for any revised task from the previous performance of the task.

(3) Doing the revision required by paragraph (f) of this AD terminates the requirements of paragraph (f) of AD 2007-05-08, Amendment 39-14969, for that airplane only.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to Mandatory Continuing Airworthiness Information (MCAI) EASA Airworthiness Directive 2009-0098, dated April 22, 2009; and Airbus A340 ALS, Part 3—Certification Maintenance Requirements (CMR), Revision 00, dated July 31, 2008; for related information.

Material Incorporated by Reference

(i) You must use Airbus A340 ALS, Part 3—Certification Maintenance Requirements (CMR), Revision 00, including Appendices 1 and 2, dated July 31, 2008, to do the actions required by this AD, unless the AD specifies otherwise. (The title page of this document does not specify a revision date; the revision date is specified on all other pages of the document. Only the title page and the Record of Revisions specify the revision level of this document.)

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80, e-mail airworthiness.A330-A340@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on December 23, 2009.
Ali Bahrami,
Manager, Transport Airplane Directorate, Aircraft Certification Service.

[FR Doc. E9-31287 Filed 1-11-10; 8:45 am]

BILLING CODE 4910-13-P